DEPARTMENT OF VETERANS AFFAIRS

Advisory Committee on Homeless Veterans; Notice of Meeting

The Department of Veterans Affairs (VA) gives notice under the Federal Advisory Committee Act that a virtual meeting of the Advisory Committee on Homeless Veterans will be held April 7, 2020 from 1:00 p.m. to 3:00 p.m. (Eastern Standard Time). The virtual meeting is open to the public.

The purpose of the Committee is to provide the Secretary of Veterans Affairs with an on-going assessment of the effectiveness of the policies, organizational structures, and services of VA in assisting Veterans at-risk and experiencing homelessness. The Committee shall assemble, and review information related to the needs of homeless Veterans and provide advice on the most appropriate means of providing assistance to that subset of the Veteran population. The Committee will make recommendations to the Secretary of Veterans Affairs regarding such activities.

The agenda will include briefings from officials at VA and other federal, state and local agencies regarding services for homeless Veterans.

No time will be allocated at this virtual meeting for receiving oral presentations from the public. Interested parties should provide written comments on issues affecting homeless Veterans for review by the Committee to Mr. Anthony Love, Designated Federal Officer, Veterans Health Administration, Homeless Programs Office (10NC1), Department of Veterans Affairs, 811 Vermont Avenue NW (10NC1), Washington, DC 20420, or via email at Anthony.Love@va.gov and Leisa.Davis@va.gov.

Members of the public who wish to virtually attend should contact Anthony.Love@va.gov and Leisa.Davis@va.gov of the Veterans Health Administration, Homeless Programs Office no later than March 25, 2020, to provide their name, professional affiliation, email address, and phone number. There will also be a call-in number at 1-800-767-1750; access code: 50653#.

Dated: March 11, 2020.
Jelessa M. Burney,
Federal Advisory Committee Management Officer.

[FR Doc. 2020-05352 Filed 3-13-20; 8:45 am]

BILLING CODE P